DEPARTMENT OF DEFENSE

Department of the Navy

Notice of Intent To Grant an Exclusive License; PhareTech

AGENCY: Department of the Navy, DoD.

ACTION: Notice.

SUMMARY: The Department of the Navy hereby gives notice of its intent to grant to PhareTech located at 4720 Chevy Chase Drive, Apartment 406, Chevy Chase, Maryland 20815, a revocable, nonassignable, exclusive license throughout the United States (U.S.) in all the fields of use in the Government-Owned invention described in U.S. Patent Application number 14/734,186 filed on June 9, 2015 entitled “Low Latency Fiber Optic Local Area Network” inventors Beranek et al.

ADDRESSES: Written objections are to be filed with the Naval Air Warfare Center Aircraft Division, Technology Transfer Office, Attention Michelle Miedzinski, Code 5.0H, 22347 Cedar Point Road, Building 2185, Box 62, Room 2160, Patuxent River, Maryland 20670.

DATES: Anyone wishing to object to the grant of this license must file written objections along with supporting evidence, if any, within fifteen (15) days of the date of this published notice.

FOR FURTHER INFORMATION CONTACT: Michelle Miedzinski, 301-342-1133, Naval Air Warfare Center Aircraft Division, 22347 Cedar Point Road, Building 2185, Box 62, Room 2160, Patuxent River, Maryland 20670.

Authority: 35 U.S.C. 207, 37 CFR part 404.

Dated: February 13, 2017.
A.M. Nichols,
Lieutenant Commander, Judge Advocate General's Corps, U.S. Navy, Federal Register Liaison Officer.

[FR Doc. 2017-03264 Filed 2-17-17; 8:45 am]

BILLING CODE 3810-FF-P